DEPARTMENT OF COMMERCE

International Trade Administration

[A-570-827]

Certain Cased Pencils From the People's Republic of China: Rescission of Antidumping Duty Administrative Review; 2023-2024

AGENCY: Enforcement and Compliance, International Trade Administration, Department of Commerce.

SUMMARY: The U.S. Department of Commerce (Commerce) is rescinding the administrative review of the antidumping duty order on certain cased pencils (pencils) from the People's Republic of China (China) for the period of review (POR) December 1, 2023 to November 30, 2024.

DATES: Applicable May 7, 2025.

FOR FURTHER INFORMATION CONTACT: Elizabeth Beuley, AD/CVD Operations, Office IX, Enforcement and Compliance, International Trade Administration, U.S. Department of Commerce, 1401 Constitution Avenue NW, Washington, DC 20230; telephone: (202) 482-3269.

SUPPLEMENTARY INFORMATION:

Background

On December 28, 1994, Commerce published in the Federal Register the antidumping duty order on pencils from China.¹ On December 3, 2024, Commerce published in the Federal Register a notice of opportunity to request an administrative review of the Order.² On December 9, 2024, Commerce tolled certain deadlines in this administrative proceeding by 90 days.³ The deadline for the preliminary results is now December 1, 2025.

¹ See Antidumping Duty Order: Certain Cased Pencils from the People's Republic of China, 59 FR 66909 (December 28, 1994) (Order).

² See Antidumping or Countervailing Duty Order, Finding, or Suspended Investigation; Opportunity to Request Administrative Review and Join Annual Inquiry Service List, 89 FR 95737 (December 3, 2024).

³ See Memorandum, “Tolling of Deadlines for Antidumping and Countervailing Duty Proceedings,” dated December 9, 2024.

On January 13, 2025, Commerce issued a questionnaire to Aloha Pencil Co. (Aloha Pencil) to assess its standing as a domestic producer, manufacturer, or wholesaler of pencils during the POR.⁴ On January 27, 2025, based on timely requests for review from Dixon Ticonderoga Company (the petitioner) and Aloha Pencil, in accordance with 19 CFR 351.221(c)(1)(i) and section 751(a) of the Tariff Act of 1930, as amended (the Act), Commerce published the initiation of this administrative review with respect to 39 companies.⁵

⁴ See Commerce's Letter, “Aloha Pencil Domestic Standing Questionnaire,” dated January 13, 2025.

⁵ See Initiation of Antidumping and Countervailing Duty Administrative Reviews, 90 FR 8187, 8190 (January 27, 2025) (Initiation Notice).

On February 7, 2025, Aloha Pencil timely submitted its Standing Questionnaire Response.⁶ On February 14, 2025, Commerce issued a supplemental questionnaire to Aloha Pencil regarding its standing, to which it timely responded on March 3, 2025.⁷ On February 19, 2025, China First Pencil Co., Ltd. (China First) submitted comments on Aloha Pencil's Standing Questionnaire Response.⁸ On March 13, 2025, China First submitted comments on Aloha Pencil's Supplemental Standing Questionnaire Response.⁹ On March 20, 2025, Aloha Pencil submitted rebuttal comments.¹⁰

⁶ See Aloha Pencil's Letter, “Standing Questionnaire Response,” dated February 7, 2025 (Standing Questionnaire Response).

⁷ See Commerce's Letter, “Supplemental Questionnaire,” dated February 14, 2025; see also Aloha Pencil's Letter, “Standing Questionnaire Response,” dated March 3, 2025 (Supplemental Standing Questionnaire Response).

⁸ See China First's Letter, “Comments on Aloha's Response to the Standing Questionnaire,” dated February 19, 2025.

⁹ See China First's Letter, “Comments on Aloha's Supplemental Response To the Standing Questionnaire and Request That The Review Be Rescinded as to China First Pencil Co., Ltd.,” dated March 13, 2025 (Deficiency Comments on Supplemental Standing Response).

¹⁰ See Aloha Pencil's Letter, “Reply to Comments on Aloha Pencil Standing Supplemental Questionnaire Response,” dated March 20, 2025.

On March 25, 2025, based on the information on the record, Commerce determined that Aloha Pencil was not a bona fide producer, manufacturer, or wholesaler of a domestic like product during the POR.¹¹ As a result, Commerce declined to find that Aloha Pencil is a domestic interested party and stated that it was: (1) treating Aloha Pencil's review request as void; and (2) preliminarily rescinding this administrative review with respect to any company for which Aloha Pencil was the sole requestor.¹² Consequently, because Aloha Pencil's request for review of 34 companies was void, and it was the sole party requesting a review of these companies, only five companies remained under review: (1) Centraline Stationery & Gift Co. Limited; (2) Ningbo Homey Union Co., Ltd.; (3) Shandong Wah Yuen Stationery Co. Ltd.; (4) Tianjin Tonghe Stationery Co. Ltd; and (5) Wah Yuen Stationery Co. Ltd.¹³

¹¹ See Memorandum, “Aloha Pencil Company's Standing to Request Review,” dated March 25, 2025 (Standing Determination).

¹² Id.

¹³ See Petitioner's Letter, “Request for Administrative Review,” dated December 26, 2024. See also Initiation Notice, 90 FR at 8190.

On March 26, 2025, Commerce released the U.S. Customs and Border Protection (CBP) data to all interested parties under an administrative protective order and requested comments regarding the data and respondent selection.¹⁴ We received no comments from interested parties on the CBP data.

¹⁴ See Memorandum, “Release of Customs Entry Data,” dated March 26, 2025.

On April 3, 2025, Commerce notified all interested parties of its intent to rescind this review in full because there were no reviewable, suspended entries of subject merchandise from the five remaining companies under review and invited comments from interested parties.¹⁵ We received no comments from interested parties on our intent to rescind.

¹⁵ See Memorandum, “Notice of Intent to Rescind Review,” dated April 3, 2025.

Rescission of Review

Pursuant to 19 CFR 351.213(d)(3), it is Commerce's practice to rescind an administrative review of an antidumping duty order when there are no reviewable entries of subject merchandise during the POR for which liquidation is suspended.¹⁶ Normally, upon completion of an administrative review, the suspended entries are liquidated at the antidumping duty assessment rate calculated for the review period.¹⁷ Therefore, for an administrative review to be conducted, there must be a reviewable, suspended entry that Commerce can instruct CBP to liquidate at the antidumping duty assessment rate calculated for the review period.¹⁸ As explained above, because Commerce declined to find that Aloha Pencil is a domestic interested party, its request for review of 34 companies is void, and there were no reviewable, suspended entries of subject merchandise in the CBP data for the five companies remaining companies under review during the POR. Accordingly, in the absence of suspended entries of subject merchandise during the POR, we are hereby rescinding this administrative review, in its entirety, in accordance with 19 CFR 351.213(d)(3).

¹⁶ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023); and Lightweight Thermal Paper from Japan: Rescission of Antidumping Administrative Review; 2022-2023, 89 FR 18373 (March 13, 2024).

¹⁷ See 19 CFR 351.212(b)(1).

¹⁸ See 19 CFR 351.213(d)(3).

Assessment

Commerce will instruct CBP to assess antidumping duties on all appropriate entries.

Antidumping duties shall be assessed at rates equal to the cash deposit of estimated antidumping duties required at the time of entry, or withdrawal from warehouse, for consumption, in accordance with 19 CFR 351.212(c)(1)(i). Commerce intends to issue assessment instructions to CBP no earlier than 35 days after the date of publication of this rescission notice in the Federal Register.

Administrative Protective Order

This notice serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: May 2, 2025.
Scot Fullerton,
Acting Deputy Assistant Secretary for Antidumping and Countervailing Duty Operations.

[FR Doc. 2025-07963 Filed 5-6-25; 8:45 am]

BILLING CODE 3510-DS-P